DEPARTMENT OF COMMERCE

International Trade Administration

[A-475-835]

Finished Carbon Steel Flanges From Italy: Preliminary Results of Antidumping Duty Administrative Review; 2017-2018

AGENCY: Enforcement and Compliance, International Trade Administration, Department of Commerce.

SUMMARY: The Department of Commerce (Commerce) preliminarily determines that finished carbon steel flanges from Italy are being sold in the United States at less than normal value during the period of review (POR). The POR is February 8, 2017 through July 31, 2018. Interested parties are invited to comment on these preliminary results.

DATES: Applicable October 17, 2019.

FOR FURTHER INFORMATION CONTACT: Edythe Artman or Brian C. Davis, AD/CVD Operations, Office VI, Enforcement and Compliance, International Trade Administration, U.S. Department of Commerce, 1401 Constitution Avenue NW, Washington, DC 20230; telephone: (202) 482-3931 or (202) 482-7924, respectively.

SUPPLEMENTARY INFORMATION:

Background

These preliminary results of review are issued in accordance with section 751(a) of the Tariff Act of 1930, as amended (the Act). On October 4, 2018, in accordance with section 751(a) of the Act and 19 CFR 351.221(c)(1)(i), Commerce published the notice of initiation for the administrative review.¹ In the Initiation Notice, Commerce stated that, where appropriate, it intended to select respondents based on U.S. Customs and Border Protection (CBP) data for U.S. imports during the POR.² After receiving no comments on the CBP data from parties with an administrative protective order, Commerce selected ASFO S.p.A. (ASFO) and Forgital Italy S.p.A. (Forgital) from 27 possible respondents for individual examination in this review.³

¹ See Initiation of Antidumping and Countervailing Duty Administrative Reviews, 83 FR 50077 (October 4, 2018) (Initiation Notice).

² Id.

³ See Memorandum, “Antidumping Duty Administrative Review of Finished Carbon Steel Flanges from Italy: Respondent Selection,” dated November 16, 2018, 1-5.

Commerce exercised its discretion to toll all deadlines affected by the partial federal government closure from December 22, 2018 through the resumption of operations on January 29, 2019, moving the deadline for the preliminary results of this review to June 12, 2019.⁴ On June 6, 2019, we extended the time limit for completion of the preliminary results of the review to no later than October 10, 2019.⁵ For a complete description of the events that followed the initiation of the review, see the Preliminary Decision Memorandum.⁶

⁴ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁵ See Memorandum, “Finished Carbon Steel Flanges from Italy: Extension of Deadline for Preliminary Results of Antidumping Duty Administrative Review; 2017-2018,” dated June 6, 2019.

⁶ See Memorandum, “Decision Memorandum for Preliminary Results of Antidumping Duty Administrative Review: Finished Carbon Steel Flanges from Italy; 2017-2018,” dated concurrently with, and hereby adopted by, this notice (Preliminary Decision Memorandum).

A list of topics included in the Preliminary Decision Memorandum is included in the Appendix to this notice. The Preliminary Decision Memorandum is a public document and is on file electronically via Enforcement and Compliance's Antidumping and Countervailing Duty Centralized Electronic Service System (ACCESS). ACCESS is available to registered users at https://access.trade.gov and to all parties in the Central Records Unit, located in room B8094 of the main Commerce building. In addition, a complete version of the Preliminary Decision Memorandum can be accessed directly at http://enforcement.trade.gov/frn/. The signed and the electronic versions of the Preliminary Decision Memorandum are identical in content.

Scope of the Order

The products covered by the scope of the order are finished carbon steel flanges from Italy. For a complete description of the scope, see the Preliminary Decision Memorandum.

Methodology

Commerce is conducting this review in accordance with section 751(a)(1)(B) of the Act. For a full description of the methodology underlying the preliminary results, see the Preliminary Decision Memorandum.

Facts Available

Pursuant to section 776(a) of the Act, Commerce is preliminarily relying upon facts otherwise available to assign estimated weighted-average dumping margins to the respondents selected for individual examination in this review, because both ASFO and Forgital withheld necessary information that was requested by Commerce, thereby significantly impeding the conduct of the review. Further, Commerce preliminarily determines that both ASFO and Forgital failed to cooperate by not acting to the best of their abilities to comply with requests for information and, thus, Commerce is applying an adverse inference in selecting among the facts available, in accordance with section 776(b) of the Act. For a full description of the methodology underlying our conclusions regarding the application of adverse facts available (AFA), see the Preliminary Decision Memorandum.

Rate for Non-Selected Companies

In accordance with the U.S. Court of Appeals for the Federal Circuit's decision in Albemarle Corp. v. United States,⁷ we are applying to the non-selected companies a rate based on the simple average of the individual rates preliminarily applied to ASFO and Forgital in this administrative review, or 204.53 percent. For a detailed discussion, see the Preliminary Decision Memorandum.

⁷ See Albemarle Corp. v. United States, 821 F.3d 1345 (Fed. Cir. 2016).

Preliminary Results of Review

We preliminarily determine that, for the period February 8, 2017 through July 31, 2018, the following dumping margins exist:

Producer/exporter | Weighted- average dumping margin (percent)
ASFO S.p.A | 204.53
Forgital Italy S.p.A | 204.53
ASFO S.p.A.—FOMAS Group | 204.53
Assotherm srl | 204.53
Bifrangi S.p.A | 204.53
CAT Carpenteria Metallica srl | 204.53
Costruzione Ricambi Machine Industriali | 204.53
Filmag Italia S.r.l | 204.53
FOC Ciscato S.p.Ar | 204.53
FOMAS | 204.53
Forgia Di Bollate S.p.A | 204.53
Forgiatura A. Vienna diAntonio Vienna | 204.53
Franchini Acciai S.p.A | 204.53
Galperti Forged Products | 204.53
Inox Laghi S.r.l | 204.53
KIASMA SRL | 204.53
Iml Industria Meccanica Ligure | 204.53
Martin Valmore srl | 204.53
M.E.G.A. S.p.A | 204.53
Metalfar Prodotti Industriali, S.p.A | 204.53
Officine Ambrogio Melesi & C. S.R.L | 204.53
Officine di Cortabbio s.r.l | 204.53
OFFICINE MECCANICHE CIOCCA S.p.A | 204.53
Office SANTAFEDE | 204.53
Siderforgerossi Group S.p.A | 204.53
UNIGEN Steel Engineering | 204.53
VALVITALIA S.p.A | 204.53

Disclosure and Public Comment

Normally, Commerce discloses the calculations performed in connection with preliminary results to interested parties within five days after the date of publication of this notice.⁸ Because Commerce preliminarily applied total AFA to each of the mandatory respondents in this review, in accordance with section 776 of the Act, there are no calculations to disclose.

⁸ See 19 CFR 351.224(b).

Interested parties may submit case briefs no later than 30 days after the date of publication of this notice.⁹ Rebuttal briefs, the content of which is limited to the issues raised in the case briefs, must be filed within five days from the deadline date for the submission of case briefs.¹⁰ Parties who submit case or rebuttal briefs in this proceeding are requested to submit with each argument: (1) A statement of the issue; (2) a brief summary of the argument; and (3) a table of authorities.¹¹ Case and rebuttal briefs should be filed using ACCESS.¹²

⁹ See 19 CFR 351.309(c)(1)(ii).

¹⁰ See 19 CFR 351.309(d)(1) and (2).

¹¹ See 19 CFR 351.309(c)(2) and (d)(2).

¹² See generally 19 CFR 351.303.

Pursuant to 19 CFR 351.310(c), interested parties who wish to request a hearing must submit a written request to the Assistant Secretary for Enforcement and Compliance, filed electronically via ACCESS. An electronically filed document must be received successfully in its entirety by the Department's electronic records system, ACCESS, by 5:00 p.m. Eastern Time within 30 days after the date of publication of this notice.¹³ Requests should contain: (1) The party's name, address and telephone number; (2) the number of participants; and (3) a list of issues parties intend to discuss. Issues raised in the hearing will be limited to those raised in the respective case and rebuttal briefs. If a request for a hearing is made, Commerce intends to hold the hearing at the U.S. Department of Commerce, 1401 Constitution Avenue NW, Washington, DC 20230, at a date and time to be determined.¹⁴ Parties should confirm the date, time, and location of the hearing two days before the scheduled date.

¹³ See 19 CFR 351.310(c).

¹⁴ See 19 CFR 351.310(d).

Unless extended, Commerce intends to issue the final results of this administrative review, which will include the results of our analysis of all issues raised in the case and rebuttal briefs, within 120 days of publication of these preliminary results in the Federal Register, pursuant to section 751(a)(3)(A) of the Act.

Assessment Rates

Upon completion of the administrative review, Commerce shall determine, and CBP shall assess, antidumping duties on all appropriate entries covered by this review.¹⁵ If the preliminary results are unchanged for the final results, we will instruct CBP to apply an ad valorem assessment rate of 204.53 percent to all entries of subject merchandise during the POR which were produced and/or exported by ASFO, Forgital and the aforementioned companies which were not selected for individual examination. We intend to issue liquidation instructions to CBP 15 days after publication of the final results of this review.

¹⁵ See 19 CFR 351.212(b).

Cash Deposit Requirements

The following cash deposit requirements will be effective upon publication of the final results of this administrative review for all shipments of the subject merchandise entered, or withdrawn from warehouse, for consumption on or after the publication date of the final results of this administrative review, as provided by section 751(a)(2)(C) of the Act: (1) The cash deposit rate for ASFO, Forgital and the other companies listed above will be equal to the dumping margin established in the final results of this administrative review; (2) for previously reviewed or investigated companies not listed above, the cash deposit rate will continue to be the company-specific rate published for the most recently completed segment of this proceeding in which they were reviewed; (3) if the exporter is not a firm covered in this review, a prior review, or in the investigation, but the producer is, the cash deposit rate will be the rate established for the most recently completed segment of this proceeding for the producer of the merchandise; and (4) the cash deposit rate for all other producers or exporters will continue to be the all-others rate of 79.17 percent, the rate established in the investigation of this proceeding.¹⁶ These cash deposit requirements, when imposed, shall remain in effect until further notice.

¹⁶ See Finished Carbon Steel Flanges from India and Italy: Antidumping Duty Orders, 82 FR 40136, 40138 (August 24, 2017).

Notification to Importers

This notice also serves as a reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing this notice in accordance with sections 751(a)(1) and 777(i)(1) of the Act and sections 19 CFR 351.213(h)(1) and 351.221(b)(4).

Dated: October 9, 2019.
Jeffrey I. Kessler,
Assistant Secretary for Enforcement and Compliance.

Appendix

List of Topics Discussed in the Preliminary Decision Memorandum

I. Summary

II. Background

III. Scope of the Order

IV. Application of Facts Available and Use of Adverse Inference

V. Rate for Non-Selected Companies

VI. Recommendation

[FR Doc. 2019-22668 Filed 10-16-19; 8:45 am]

BILLING CODE 3510-DS-P